DEPARTMENT OF THE INTERIOR

Fish and Wildlife Service

50 CFR Part 20

[Docket No. FWS-HQ-MB-2020-0032;FF09M220002012;2012;FXMB1231099BPP0]

RIN 1018-BE34

Migratory Bird Hunting; Migratory Bird Hunting Regulations on Certain Federal Indian Reservations and Ceded Lands for the 2021-22 Season

AGENCY: Fish and Wildlife Service, Interior.

ACTION: Final rule.

SUMMARY: This rule prescribes special migratory bird hunting regulations for certain Tribes on Federal Indian reservations, off-reservation trust lands, and ceded lands. This rule responds to Tribal requests for U.S. Fish and Wildlife Service (hereinafter “Service” or “we”) recognition of their authority to regulate hunting under established guidelines. This rule allows the establishment of season bag limits and, thus, harvest at levels compatible with populations and habitat conditions.

DATES: This rule is effective August 17, 2021.

ADDRESSES: You may inspect comments received on the migratory bird hunting regulations at http://www.regulations.gov at Docket No. FWS-HQ-MB-2020-0032. You may obtain copies of referenced reports from the Division of Migratory Bird Management's website at http://www.fws.gov/migratorybirds/ or at http://www.regulations.gov at Docket No. FWS-HQ-MB-2020-0032.

Information Collection Requirements: Written comments and suggestions on the information collection requirements may be submitted at any time to the Service Information Collection Clearance Officer, U.S. Fish and Wildlife Service, 5275 Leesburg Pike, MS: PRB (JAO/3W), Falls Church, VA 22041-3803 (mail); or Info_Coll@fws.gov (email). Please reference “OMB Control Number 1018-0171” in the subject line of your comments.

FOR FURTHER INFORMATION CONTACT: Jerome Ford, U.S. Fish and Wildlife Service, Department of the Interior, (202) 208-2012;1050.

SUPPLEMENTARY INFORMATION:

Background

The Migratory Bird Treaty Act (MBTA) of July 3, 1918 (16 U.S.C. 703 et seq.), authorizes and directs the Secretary of the Department of the Interior, having due regard for the zones of temperature and for the distribution, abundance, economic value, breeding habits, and times and lines of flight of migratory game birds, to determine when, to what extent, and by what means such birds or any part, nest, or egg thereof may be taken, hunted, captured, killed, possessed, sold, purchased, shipped, carried, exported, or transported.

In the May 4, 2021, Federal Register (86 FR 23641), we proposed special migratory bird hunting regulations for the 2021-22 hunting season for certain Indian Tribes, under the guidelines described in the June 4, 1985, Federal Register (50 FR 23467). The guidelines respond to Tribal requests for Service recognition of their reserved hunting rights, and for some Tribes, recognition of their authority to regulate hunting by both Tribal members and nonmembers on their reservations. The guidelines include possibilities for:

(1) On-reservation hunting by both Tribal members and nonmembers, with hunting by nontribal members on some reservations to take place within Federal frameworks but on dates different from those selected by the surrounding State(s);

(2) On-reservation hunting by Tribal members only, outside of usual Federal frameworks for season dates and length, and for daily bag and possession limits; and

(3) Off-reservation hunting by Tribal members on ceded lands, outside of usual framework dates and season length, with some added flexibility in daily bag and possession limits.

In all cases, the regulations established under the guidelines must be consistent with the March 10-September 1 closed season mandated by the 1916 Migratory Bird Treaty with Canada.

In the October 9, 2020, Federal Register (85 FR 64097), we requested that Tribes desiring special hunting regulations in the 2021-22 hunting season submit a proposal including details on:

(1) Harvest anticipated under the requested regulations;

(2) Methods that would be employed to measure or monitor harvest (such as bag checks, mail questionnaires, etc.);

(3) Steps that would be taken to limit level of harvest, where it could be shown that failure to limit such harvest would adversely impact the migratory bird resource; and

(4) Tribal capabilities to establish and enforce migratory bird hunting regulations.

No action is required if a Tribe wishes to observe the hunting regulations established by the State(s) in which an Indian reservation is located. We have successfully used the guidelines since the 1985-86 hunting season. We finalized the guidelines beginning with the 1988-89 hunting season (53 FR 31612, August 18, 1988).

The final rule described here is the final in the series of proposed and final rulemaking documents for migratory bird hunting regulations on certain Federal Indian reservations and ceded lands for the 2021-22 season. This rule sets hunting seasons, hours, areas, and limits for migratory game bird species on reservations and ceded territories. This final rule is the culmination of the rulemaking process for the Tribal migratory game bird hunting seasons, which started with the October 9, 2020, proposed rule. This final rule sets the migratory bird hunting regulations on certain Federal Indian reservations and ceded lands for the 2021-22 season.

Population Status and Harvest

Each year we publish reports that provide detailed information on the status and harvest of certain migratory game bird species. These reports are available at the address indicated under FOR FURTHER INFORMATION CONTACT or from our website at https://www.fws.gov/birds/surveys-and-data/reports-and-publications/population-status.php.

We used the following annual reports published in August 2020 in the development of proposed frameworks for the migratory bird hunting regulations: Adaptive Harvest Management, 2021 Hunting Season; American Woodcock Population Status, 2020; Band-tailed Pigeon Population Status, 2020; Migratory Bird Hunting Activity and Harvest During the 2018-19 and 2019-20 Hunting Seasons; Mourning Dove Population Status, 2020; Status and Harvests of Sandhill Cranes, Mid-continent, Rocky Mountain, Lower Colorado River Valley and Eastern Populations, 2020; and Waterfowl Population Status, 2020.

Our long-term objectives continue to include providing opportunities to harvest portions of certain migratory game bird populations and to limit harvests to levels compatible with each population's ability to maintain healthy, viable numbers. Having taken into account the zones of temperature and the distribution, abundance, economic value, breeding habits, and times and lines of flight of migratory birds, we conclude that the hunting seasons provided for herein are compatible with the current status of migratory bird populations and long-term population goals. Additionally, we are obligated to, and do, give serious consideration to all information received during the public comment period.

Comments and Issues Concerning Tribal Proposals

For the 2021-22 migratory bird hunting season, we proposed regulations for 32 Tribes or Indian groups that followed the 1985 guidelines and were considered appropriate for final rulemaking. However, at that time, we noted in the May 4, 2021, proposed rule (86 FR 23641) that we were proposing seasons for five Tribes who submitted proposals in past years but from whom we had not yet received proposals this year. We did not receive proposals from any of those Tribes for the 2021-22 migratory bird hunting season and, therefore, have not included regulations for those Tribes in this final rule.

The comment period for the May 4, 2021, proposed rule closed on June 3, 2021. We received seven comments on our proposed rule. Four commenters supported the proposed rule, whereas three commenters were against any hunting of migratory birds. Two of the commenters in support of the proposed rule appreciated the acknowledgment of Tribal rights to co-manage the migratory bird resource. The Service appreciates the opportunity to establish special migratory bird hunting regulations in recognition of the Tribes' reserved hunting rights, and for some Tribes, recognition of their authority to regulate hunting by both Tribal members and nonmembers on their reservations. For the three commenters that were against any hunting of migratory birds, we addressed this comment in our Final 2021-22 Frameworks for Migratory Bird Hunting Regulations, and Special Procedures for Issuance of Annual Hunting Regulations.

Required Determinations

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2021-22,” with its corresponding May 2021 finding of no significant impact. The programmatic document, as well as the separate environmental assessment, is available on our website at https://www.fws.gov/birds/index.php.

Endangered Species Act Consideration

Section 7 of the Endangered Species Act of 1973, as amended (16 U.S.C. 1531 et seq.), provides that the Secretary shall insure that any action authorized, funded, or carried out is not likely to jeopardize the continued existence of any endangered species or threatened species or result in the destruction or adverse modification of critical habitat. After we published the October 9, 2020, proposed rule (85 FR 64097), we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. The biological opinion resulting from this section 7 consultation is available as indicated under ADDRESSES.

Regulatory Planning and Review—Executive Orders 12866 and 13563

Executive Order (E.O.) 12866 provides that the Office of Information and Regulatory Affairs (OIRA) will review all significant rules. OIRA has reviewed documents related to this final rule and has determined that the annual migratory bird hunting regulations are significant because they have an annual effect of $100 million or more on the economy.

E.O. 13563 reaffirms the principles of E.O. 12866 while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An economic analysis was prepared for the 2021-22 season. This analysis was based on data from the 2016 National Survey of Fishing, Hunting, and Wildlife-Associated Recreation (National Survey), the most recent year for which data are available (see discussion under Regulatory Flexibility Act, below). This analysis estimated consumer surplus for three alternatives for duck hunting regulations. As defined by the U.S. Office of Management and Budget (OMB) in Circular A-4, consumers' surplus is the difference between what a consumer pays for a unit of a good or service and the maximum amount the consumer would be willing to pay for that unit. The duck hunting regulatory alternatives are (1) issue restrictive regulations allowing fewer days than those issued during the 2020-21 season, (2) issue moderate regulations allowing more days than those in alternative 1, and (3) issue liberal regulations similar to the regulations in the 2020-21 season. For the 2021-22 season, we chose Alternative 3, with an estimated consumer surplus across all flyways of $270-$358 million with a mid-point estimate of $314 million. We also chose Alternative 3 for the 2009-10 through 2020-21 seasons. The 2021-22 analysis is part of the record for this rule and is available as described in ADDRESSES.

Regulatory Flexibility Act

The annual migratory bird hunting regulations have a significant economic impact on substantial numbers of small entities under the Regulatory Flexibility Act (5 U.S.C. 601 et seq.). A final regulatory flexibility analysis was prepared to analyze the economic impacts of the annual hunting regulations on small business entities. This analysis is updated annually. The primary source of information about hunter expenditures for migratory game bird hunting is the National Survey, which is generally conducted at 5-year intervals. The 2021 analysis is based on the 2016 National Survey and the U.S. Department of Commerce's County Business Patterns, from which it is estimated that migratory bird hunters will spend approximately $2.2 billion at small businesses in 2021. Copies of the analysis are available as set forth in ADDRESSES.

Small Business Regulatory Enforcement Fairness Act

The annual migratory bird hunting regulations constitute a major rule under 5 U.S.C. 804(2), the Small Business Regulatory Enforcement Fairness Act as they will have an annual effect on the economy of $100 million or more. However, because this rule establishes hunting seasons, which are time sensitive, we do not plan to defer the effective date under the exemption contained in 5 U.S.C. 808(1).

Paperwork Reduction Act

This final rule contains existing and new information collections that we have submitted to the OMB for review and approval under the Paperwork Reduction Act of 1995 (44 U.S.C. 3501 et seq.). All information collections require approval under the Paperwork Reduction Act of 1995 (PRA, 44 U.S.C. 3501 et seq.). We may not conduct or sponsor and you are not required to respond to a collection of information unless it displays a currently valid OMB control number. The OMB has reviewed and approved the information collection requirements associated with migratory bird surveys and the procedures for establishing annual migratory bird hunting seasons under the following OMB control numbers:

• 1018-0019, “North American Woodcock Singing Ground Survey” (expires 2/29/2024).

• 1018-0023, “Migratory Bird Surveys, 50 CFR 20.20” (expires 4/30/2023).

• 1018-0171, “Establishment of Annual Migratory Bird Hunting Seasons, 50 CFR part 20” (expires 2/29/2024).

The information collection requirements associated with the procedures for establishing annual migratory bird hunting seasons are described below (to include those labeled as “(NEW)” under “(2) Reports”) require OMB approval:

Migratory game birds are those bird species so designated in conventions between the United States and several foreign nations for the protection and management of these birds. Under the Migratory Bird Treaty Act (16 U.S.C. 703-712), the Secretary of the Interior is authorized to determine when “hunting, taking, capture, killing, possession, sale, purchase, shipment, transportation, carriage, or export of any * * * bird, or any part, nest, or egg” of migratory game birds can take place, and to adopt regulations for this purpose. These regulations are written after giving due regard to “the zones of temperature and to the distribution, abundance, economic value, breeding habits, and times and lines of migratory flight of such birds” and are updated annually (16 U.S.C. 704(a)). This responsibility has been delegated to the Service as the lead Federal agency for managing and conserving migratory birds in the United States. However, migratory game bird management is a cooperative effort of State, Tribal, and Federal governments. Migratory game bird hunting seasons provide opportunities for recreation and sustenance; aid Federal, State, and Tribal governments in the management of migratory game birds; and permit harvests at levels compatible with migratory game bird population status and habitat conditions.

The Service develops migratory game bird hunting regulations by establishing the frameworks, or outside limits, for season lengths, bag limits, and areas for migratory game bird hunting. Acknowledging regional differences in hunting conditions, the Service has administratively divided the Nation into four Flyways for the primary purpose of managing migratory game birds. Each Flyway (Atlantic, Mississippi, Central, and Pacific) has a Flyway Council, a formal organization generally composed of one member from each State and Province in that Flyway. The Flyway Councils, established through the Association of Fish and Wildlife Agencies, also assist in researching and providing migratory game bird management information for Federal, State, and Provincial governments, as well as private conservation entities and the general public.

We request the following information to establish annual migratory bird hunting seasons:

(1) Information Requested to Establish Annual Migratory Bird Hunting Seasons:

(A) Tribes that wish to use the guidelines to establish special hunting regulations for the annual migratory game bird hunting season are required to submit a proposal that includes:

(i) The requested migratory game bird hunting season dates and other details regarding the proposed regulations;

(ii) Harvest anticipated under the proposed regulations; and

(iii) Tribal capabilities to enforce migratory game bird hunting regulations.

(B) State and U.S. territory governments that wish to establish annual migratory game bird hunting seasons are required to provide the requested dates and other details for hunting seasons in their respective States or Territories.

(2) Reports: The following reports, requested from the States and Tribes, are submitted either annually or every 3 years as explained in the following text.

(A) Reports from Experimental Hunting Seasons and Season Structure Changes:

Atlantic Flyway Council:

• Delaware—Experimental tundra swan season (yearly updates and final report)

Mississippi Flyway Council:

• Alabama—Experimental sandhill crane season (yearly updates and final report)

• Minnesota—Experimental teal-only season (yearly updates and final report) (NEW)

Central Flyway Council:

• New Mexico—Experimental sandhill crane season in Estancia Valley (yearly updates and final report). Now operational—Annual data are still required, but there is not a final report, since this monitoring will occur in perpetuity (or as long as the State has that hunt area).

• South Dakota and Nebraska—Experimental two-tier hunting regulations study (yearly updates and final report) (NEW)

• Wyoming—Split (3-way) season for Canada geese (final report only)

Pacific Flyway Council:

• California—Zones and split season for white-fronted geese (final report only)

• Idaho—Experimental swan season (yearly updates and final report) (NEW)

(B) Additional State-specific Annual Reports:

• Arizona—Sandhill crane subspecies composition of the harvest conducted at 3-year intervals

• North Carolina and Virginia—Tundra swan harvest and hunter participation data

• Montana (Central Flyway portion), North Dakota, and South Dakota—Tundra swan harvest and hunter participation data (yearly)

• Montana (Pacific Flyway portion)—Swan harvest-monitoring program to measure species composition (yearly)

• Montana (Pacific Flyway portion), Utah, and Nevada—Swan harvest-monitoring program to measure the species composition and report detailing swan harvest, hunter participation, reporting compliance, and monitoring of swan populations in designated hunt areas (yearly)

Reports and monitoring are used for a variety of reasons. Some are used to monitor species composition of the harvest for those areas where species intermingling can confound harvest management and potential overharvest of one species can be a management concern. Others are used to determine overall harvest for those species and/or areas that are not sampled well by our overall harvest surveys due to either the limited nature/area of the hunt or season or where the harvest needs to be closely monitored. Experimental season reports are used to determine whether the experimental season is achieving its intended goals and objectives, without causing unintended harm to other species and ultimately whether the experimental season should proceed to operational status. Most experimental seasons are 3-year trials with yearly reports and a final report. Most of the other reports and monitoring are conducted either annually or at 3-year intervals.

Title: Establishment of Annual Migratory Bird Hunting Seasons, 50 CFR part 20.

OMB Control Number: 1018-0171.

Service Form Number: None.

Type of Request: Revision of a currently approved collection.

Description of Respondents: State and Tribal governments.

Respondent's Obligation: Required to obtain or retain a benefit.

Frequency of Collection: Annually.

Estimated Number of Annual Respondents: 82 (from 52 State governments and Territories and 30 Tribal governments).

Estimated Number of Annual Responses: 99 (includes State and Tribal governments and additional reports from States).

Average Completion Time per Response: Varies from 4 hours to 650 hours, depending on the activity.

Estimated Total Annual Burden Hours: 9,878.

Estimated Annual Non-hour Burden Cost: None.

On May 4, 2021, we published in the Federal Register (86 FR 23641) a proposed rule announcing to the public our intent to request that OMB approve our proposed revisions to this information collection. In that proposed rule, we solicited comments for 60 days, ending on July 6, 2021. We did not receive any comments in response to that proposed rule.

As part of our continuing effort to reduce paperwork and respondent burdens, and in accordance with 5 CFR 1320.8(d)(1), we again invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

This final rule is effective immediately upon publication, for the reasons set forth below under Regulations Promulgation. We will, however, accept and consider all public comments concerning the information collection requirements received in response to this final rule. Send your written comments and suggestions on this information collection to the Service Information Collection Clearance Officer, U.S. Fish and Wildlife Service, 5275 Leesburg Pike, MS: PRB (JAO/3W), Falls Church, VA 22041-3803 (mail); or Info_Coll@fws.gov (email). Please reference “OMB Control Number 1018-BE34” in the subject line of your comments.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of E.O. 12988.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule will allow hunters to exercise otherwise unavailable privileges and, therefore, will reduce restrictions on the use of private and public property.

Energy Effects—Executive Order 13211

E.O. 13211 requires agencies to prepare Statements of Energy Effects when undertaking certain actions. While this rule is a significant regulatory action under E.O. 12866, it is not expected to adversely affect energy supplies, distribution, or use. Therefore, this action is not a significant energy action and no Statement of Energy Effects is required.

Government-to-Government Relationship With Tribes

In accordance with the President's memorandum of April 29, 1994, “Government-to-Government Relations with Native American Tribal Governments” (59 FR 22951), E.O. 13175, and 512 DM 2, we have evaluated possible effects on federally recognized Indian Tribes and have determined that there are de minimis effects on Indian trust resources. We solicited proposals for special migratory bird hunting regulations for certain Tribes on Federal Indian reservations, off-reservation trust lands, and ceded lands for the 2021-22 migratory bird hunting season in the October 9, 2020, proposed rule (85 FR 64097). The resulting proposals were published in a separate proposed rule (86 FR 23641, May 4, 2021). Through this process to establish annual hunting regulations, we regularly coordinate with Tribes that are affected by this rule.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and Tribes to determine which seasons meet their individual needs. Any State or Tribe may be more restrictive in its regulations than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with E.O. 13132, these regulations do not have significant federalism effects and do not have sufficient federalism implications to warrant the preparation of a federalism summary impact statement.

Regulations Promulgation

The rulemaking process for migratory game bird hunting, by its nature, operates under a time constraint as seasons must be established each year or hunting seasons remain closed. However, we intend that the public be provided extensive opportunity for public input and involvement in compliance with Administrative Procedure Act requirements (5 U.S.C. 551 et seq.). Thus, when the preliminary proposed rulemaking was published on October 9, 2020 (85 FR 64097), we established what we concluded were the longest periods possible for public comment and the most opportunities for public involvement. We also provided notification of our participation in multiple Flyway Council meetings, opportunities for additional public review and comment on all Flyway Council proposals for regulatory change, and opportunities for additional public review during the Service Regulations Committee meeting. Therefore, sufficient public notice and opportunity for involvement have been given to affected persons regarding the migratory bird hunting frameworks for the 2021-22 hunting season.

For the reasons cited above, we find that “good cause” exists, within the terms of the Administrative Procedure Act at 5 U.S.C. 553(d)(3) for these regulations to take effect immediately upon publication.

Accordingly, with each participating Tribe having had an opportunity to participate in selecting the hunting seasons desired for its reservation or ceded territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Accordingly, part 20, subchapter B, chapter I of title 50 of the Code of Federal Regulations is amended as follows:

PART 20—MIGRATORY BIRD HUNTING

1. The authority citation for part 20 continues to read as follows:

Authority: 16 U.S.C. 703 et seq., and 16 U.S.C. 742a-j.

Note: The following hunting regulations provided for by 50 CFR 20.110 will not appear in the Code of Federal Regulations because of their seasonal nature.

2. Section 20.110 is revised to read as follows:

§ 20.110 Seasons, limits, and other regulations for certain Federal Indian reservations, Indian Territory, and ceded lands.

Unless specifically provided for in the following entries, all of the regulations contained in 50 CFR part 20 apply to the seasons listed herein.

(a) Confederated Salish and Kootenai Tribes, Flathead Indian Reservation, Pablo, Montana (Tribal Members and Nontribal Hunters).

Tribal Members Only

Ducks (Including Mergansers)

Season Dates: Open September 1, 2021, through March 9, 2022.

Daily Bag and Possession Limits: The Tribe does not have specific bag and possession restrictions for Tribal members. The season on harlequin duck is closed.

Coots

Season Dates: Same as ducks.

Daily Bag and Possession Limits: Same as ducks.

Geese

Season Dates: Same as ducks.

Daily Bag and Possession Limits: Same as ducks.

Nontribal Hunters

Ducks (Including Mergansers), Coot, and Geese

Season Dates: Same as Pacific Flyway portion of Montana.

Daily Bag and Possession Limits: Same as Pacific Flyway portion of Montana.

General Conditions: Tribal and nontribal hunters must comply with all basic Federal migratory bird hunting regulations contained in 50 CFR part 20 regarding manner of taking. In addition, shooting hours are sunrise to sunset, and each waterfowl hunter 16 years of age or older must carry on his/her person a valid Migratory Bird Hunting and Conservation Stamp (Duck Stamp) signed in ink across the stamp face. Special regulations established by the Confederated Salish and Kootenai Tribes also apply on the reservation.

(b) Fond du Lac Band of Lake Superior Chippewa Indians, Cloquet, Minnesota (Tribal Members Only).

Ducks

1854 and 1837 Ceded Territories:

Season Dates: Begin September 1 and end November 30, 2021.

Daily Bag Limit: 18 ducks, including no more than 12 mallards (only 3 of which may be hens), 9 black ducks, 9 scaup, 9 wood ducks, 9 redheads, 9 pintails, and 9 canvasbacks.

Reservation:

Season Dates: Begin September 1 and end November 30, 2021.

Daily Bag Limit: 12 ducks, including no more than 8 mallards (only 2 of which may be hens), 6 black ducks, 6 scaup, 6 redheads, 6 pintails, 6 wood ducks, and 6 canvasbacks.

Mergansers

1854 and 1837 Ceded Territories:

Season Dates: Begin September 1 and end November 30, 2021.

Daily Bag Limit: 15 mergansers, including no more than 6 hooded mergansers.

Reservation:

Season Dates: Begin September 1 and end November 30, 2021.

Daily Bag Limit: 10 mergansers, including no more than 4 hooded mergansers.

Canada Geese

All Areas:

Season Dates: Begin September 1 and end November 30, 2021.

Daily Bag Limit: 20 geese.

Coots and Common Moorhens (Common Gallinules)

All Areas:

Season Dates: Begin September 1 and end November 30, 2021.

Daily Bag Limit: 20 coots and common moorhens, singly or in the aggregate.

Sandhill Cranes

1854 and 1837 Ceded Territories:

Season Dates: Begin September 1 and end November 30, 2021.

Daily Bag Limit: Three sandhill cranes. Crane carcass tags are required prior to hunting.

Sora and Virginia Rails

All Areas:

Season Dates: Begin September 1 and end November 30, 2021.

Daily Bag Limit: 25 sora and Virginia rails, singly or in the aggregate.

Common Snipe

All Areas:

Season Dates: Begin September 1 and end November 30, 2021.

Daily Bag Limit: Eight common snipe.

Woodcock

All Areas:

Season Dates: Begin September 1 and end November 30, 2021.

Daily Bag Limit: Three woodcock.

Mourning Doves

All Areas:

Season Dates: Begin September 1 and end November 30, 2021.

Daily Bag Limit: 30 mourning doves.

Tundra and Trumpeter Swans

Reservation Only:

Season Dates: Begin September 1 and end November 30, 2021.

Daily Bag Limit: Two swans. A swan carcass tag is required prior to hunting.

General Conditions:

1. While hunting waterfowl, a Tribal member must carry on his/her person a valid Ceded Territory License.

2. Shooting hours for migratory birds are one-half hour before sunrise to one-half hour after sunset.

3. Except as otherwise noted, Tribal members will be required to comply with Tribal codes that will be no less restrictive than the provisions of Chapter 10 of the Model Off-Reservation Code. Except as modified by Service rules, these amended regulations parallel Federal requirements in 50 CFR part 20 as to hunting methods, transportation, sale, exportation, and other conditions generally applicable to migratory bird hunting.

4. Band members in each zone will comply with State regulations providing for closed and restricted waterfowl hunting areas.

5. There are no possession limits for migratory birds. For purposes of enforcing bag limits, all migratory birds in the possession or custody of band members on ceded lands will be considered to have been taken on those lands unless tagged by a Tribal or State conservation warden as having been taken on-reservation. All migratory birds that fall on reservation lands will not count as part of any off-reservation bag or possession limit.

(c) Grand Traverse Band of Ottawa and Chippewa Indians, Suttons Bay, Michigan (Tribal Members Only).

Ducks

Season Dates: Open September 1, 2021, through January 20, 2022.

Daily Bag Limit: 35 ducks, which may include no more than 8 pintail, 4 canvasback, 8 black ducks, 5 hooded merganser, 10 wood ducks, 8 redheads, and 20 mallards (only 10 of which may be hens).

Canada and Snow Geese

Season Dates: Open September 1, 2021, through February 15, 2022.

Daily Bag Limit: 15 geese.

Other Geese (White-Fronted Geese and Brant)

Season Dates: Open September 20 through December 30, 2021.

Daily Bag Limit: Five geese.

Sora Rails, Common Snipe, and Woodcock

Season Dates: Open September 1 through November 14, 2021.

Daily Bag Limit: 10 rails, 10 snipe, and 5 woodcock.

Mourning Doves

Season Dates: Open September 1 through November 14, 2021.

Daily Bag Limit: 25 mourning doves.

Sandhill Cranes

Season Dates: Open September 1 through November 14, 2021.

Daily Bag Limit: Two sandhill cranes, with a season limit of 10.

General Conditions: A valid Grand Traverse Band Tribal license is required and must be in possession before taking any wildlife. Shooting hours for migratory birds are one-half hour before sunrise to one-half hour after sunset. All other basic regulations contained in 50 CFR part 20 are valid. Other Tribal regulations apply and may be obtained at the Tribal office in Suttons Bay, Michigan.

(d) Great Lakes Indian Fish and Wildlife Commission, Odanah, Wisconsin (Tribal Members Only).

The 2021-22 waterfowl hunting season regulations apply to all treaty areas (except where noted):

Ducks

Season Dates: Begin September 1 and end December 31, 2021.

Daily Bag Limit: 50 ducks in the 1837 and 1842 Treaty Area; 30 ducks in the 1836 Treaty Area.

Mergansers

Season Dates: Begin September 1 and end December 31, 2021.

Daily Bag Limit: 10 mergansers.

Geese

Season Dates: Begin September 1 and end December 31, 2021. In addition, any portion of the ceded territory that is open to State-licensed hunters for goose hunting outside of these dates will also be open concurrently for Tribal members.

Daily Bag Limit: 20 geese in aggregate.

Other Migratory Birds

Coots and Common Moorhens (Common Gallinules)

Season Dates: Begin September 1 and end December 31, 2021.

Daily Bag Limit: 20 coots and common moorhens (common gallinules), singly or in the aggregate.

Sora and Virginia Rails

Season Dates: Begin September 1 and end December 31, 2021.

Daily Bag and Possession Limits: 20, singly, or in the aggregate, 25.

Common Snipe

Season Dates: Begin September 1 and end December 31, 2021.

Daily Bag Limit: 16 common snipe.

Woodcock: 1837 and 1842 Ceded Territories

Season Dates: Begin September 3 and end December 31, 2021.

Daily Bag Limit: 10 woodcock.

Woodcock

1836 Ceded Territories:

Season Dates: Begin September 1 and end December 31, 2021.

Daily Bag Limit: 10 woodcock.

Mourning Doves

1837 and 1842 Ceded Territories Only:

Season Dates: Begin September 1 and end November 29, 2021.

Daily Bag Limit: 15 mourning doves.

Sandhill Cranes

Season Dates: Begin September 1 and end December 31, 2021.

Daily Bag Limit: Five cranes in the 1837 and 1842 Treaty Area and no season bag limit; three cranes and no season bag limit in the 1836 Treaty Area.

Swans

1837 and 1842 Ceded Territories Only:

Season Dates: Begin September 1 and end December 31, 2021.

Daily Bag/Season Limit: Five swans. All harvested swans must be registered by presenting the fully feathered carcass to a Tribal registration station or GLIFWC warden, to be identified to species. If the total number of trumpeter swans harvested reaches 20, the swan season will be closed by emergency Tribal rule.

General Conditions:

A. All Tribal members are required to obtain a valid Tribal waterfowl hunting permit.

B. Except as otherwise noted, Tribal members are required to comply with Tribal codes that are no less restrictive than the model ceded territory conservation codes approved by Federal courts in the Lac Courte Oreilles v. State of Wisconsin (Voigt) and Mille Lacs Band v. State of Minnesota cases. Chapter 10 in each of these model codes regulates ceded territory migratory bird hunting. Both versions of Chapter 10 parallel Federal requirements as to hunting methods, transportation, sale, exportation, and other conditions generally applicable to migratory bird hunting. They also automatically incorporate by reference the Federal migratory bird regulations.

C. Particular regulations of note include:

1. Nontoxic shot is required for all waterfowl hunting by Tribal members.

2. Tribal members in each zone must comply with Tribal regulations providing for closed and restricted waterfowl hunting areas. These regulations generally incorporate the same restrictions contained in parallel State regulations.

3. There are no possession limits, with the exception of 25 rails (in the aggregate). For purposes of enforcing bag limits, all migratory birds in the possession and custody of Tribal members on ceded lands are considered to have been taken on those lands unless tagged by a Tribal or State conservation warden as taken on reservation lands. All migratory birds that fall on reservation lands do not count as part of any off-reservation bag or possession limit.

4. There are no shell limit restrictions.

5. Hunting hours are from 30 minutes before sunrise to 30 minutes after sunset, except that, within the 1837 and 1842 ceded territories, hunters may use non-mechanical nets or snares that are operated by hand to take those birds subject to an open hunting season at any time. Hunters shall be permitted to capture, without the aid of other devices (i.e., by hand) and immediately kill birds subject to an open season, regardless of time of day. Further explanation is provided at #7.

6. An experimental application of electronic calls (e-calls) will be continued in the 1837 and 1842 ceded territories. Up to 50 Tribal hunters will be allowed to use e-calls. Individuals using e-calls will be required to obtain a special permit; they will be required to complete a hunt diary for each hunt where e-calls are used; and they will be required to submit the hunt diary to the Commission within 2 weeks of the end of the season in order to be eligible to obtain an e-call permit for the following year. Required information will include the date, time, and location of the hunt; number of hunters; the number of each species harvested per hunting event; if other hunters were in the area, any interactions with other hunters; and other information deemed appropriate. Diary results will be summarized and documented in a Commission report, which will be submitted to the Service. Barring unforeseen results, this experimental application would be replicated for 3 years, after which a full evaluation would be completed.

7. Within the 1837 and 1842 ceded territories, Tribal members will be allowed to use non-mechanical, hand-operated nets (i.e., throw/cast nets or hand-held nets typically used to land fish) and/or hand-operated snares, and may chase and capture migratory birds without the aid of hunting devices (i.e., by hand). At this time, unattended nets or snares shall not be authorized under this regulation. Tribal members using nets or snares to take migratory birds, or taking birds by hand, will be required to obtain a special permit; they will be required to complete a hunt diary for each hunt where these methods are used; and they will be required to submit the hunt diary to the Commission within 2 weeks of the end of the season in order to be eligible to obtain a permit to net migratory birds for the following year. Required information will include the date, time, and location of the hunt; number of hunters; the number of each species harvested per hunting event; and other information deemed appropriate. Diary results will be summarized and documented in a Commission report, which will be submitted to the Service. Barring unforeseen results, this experimental application would be replicated for 3 years, after which a full evaluation would be completed.

(e) Jicarilla Apache Tribe, Jicarilla Indian Reservation, Dulce, New Mexico (Tribal Members and Nontribal Hunters).

Ducks (Including Mergansers)

Season Dates: Open October 2 through November 30, 2021.

Daily Bag and Possession Limits: The daily bag limit is seven, including no more than two hen mallards, one pintail, two redheads, two canvasback, and two scaup. The possession limit is three times the daily bag limit.

Canada Geese

Season Dates: Open October 2 through November 30, 2021.

Daily Bag and Possession Limits: Two and four, respectively.

General Conditions: Tribal and nontribal hunters must comply with all basic Federal migratory bird hunting regulations in 50 CFR part 20 regarding shooting hours and manner of taking. In addition, each waterfowl hunter 16 years of age or older must carry on his/her person a valid Migratory Bird Hunting and Conservation Stamp (Duck Stamp) signed in ink across the stamp face. Special regulations established by the Jicarilla Tribe also apply on the reservation.

(f) Kalispel Tribe, Kalispel Reservation, Usk, Washington (Tribal Members and Nontribal Hunters).

Nontribal Hunters on Reservation and Ceded Lands

Geese

Season Dates: Open September 18 and 19, 2021; open September 25 and 26, 2021; and open October 1, 2021, through January 8, 2022. During these periods, days to be hunted are specified by the Kalispel Tribe. Nontribal hunters should contact the Tribe for more detail on hunting days.

Daily Bag and Possession Limits: 5 Canada geese for the early season, and 20 light geese, 10 white-fronted geese, and 4 Canada geese, for the late season. The daily bag limit is 2 brant (when the State's season is open) and is in addition to dark goose limits for the late season. The possession limit is twice the daily bag limit.

Ducks

Season Dates: Open September 18 and 19, 2021; open September 25 and 26, 2021; and open October 1, 2021, through January 8, 2022.

Daily Bag and Possession Limits: Seven ducks, including no more than two female mallards, one pintail, two canvasback, two scaup, and two redheads. The possession limit is twice the daily bag limit.

Tribal Members on Ceded Lands

Geese

Season Dates: Open September 15, 2021, through January 31, 2022.

Daily Bag and Possession Limits: Six light geese and four dark geese. The daily bag limit is two brant and is in addition to dark goose limits for the late season. The possession limit is twice the daily bag limit.

Ducks

Season Dates: Open October 1, 2021, through January 31, 2022.

Daily Bag and Possession Limits: Seven ducks, including no more than two female mallards, two pintail, two canvasback, two scaup, and two redheads. The possession limit is twice the daily bag limit.

General Conditions: Tribal members must possess a valid Migratory Bird Hunting and Conservation Stamp and a Tribal ceded lands permit.

(g) Klamath Tribe, Chiloquin, Oregon (Tribal Members Only).

Ducks and Coots

Season Dates: Open October 5, 2021, through January 31, 2022.

Daily Bag and Possession Limits: 9 and 18, respectively.

Geese

Season Dates: Open October 5, 2021, through January 31, 2022.

Daily Bag and Possession Limits: 9 and 18, respectively.

General Conditions: Nontoxic shot is required. Use of live decoys, bait, and commercial use of migratory birds are prohibited. Waterfowl may not be pursued or taken while using motorized craft. Shooting hours are one-half hour before sunrise to one-half hour after sunset.

(h) [Reserved]

(i) Little River Band of Ottawa Indians, Manistee, Michigan (Tribal Members Only).

1836 Ceded Territory and Tribal Reservation:

Ducks

Season Dates: Open September 1, 2021, through January 31, 2022.

Daily Bag Limit: 12 ducks, including no more than 8 mallards (4 of which may be hens), 4 black ducks, 4 redheads, 6 wood ducks, 2 pintail, and 4 canvasback.

Merganser

Season Dates: Open September 1, 2021, through January 31, 2022.

Daily Bag Limit: 10 (only 2 of which may be hooded merganser).

Coots and Gallinules

Season Dates: Open September 1, 2021, through January 31, 2022.

Daily Bag Limit: 30 coots and 30 gallinules.

Canada Geese

Season Dates: Open September 1, 2021, through February 15, 2022.

Daily Bag Limit: 10 geese.

White-Fronted Geese, Brant, and Snow Geese

Season Dates: Open September 1, 2021, through February 15, 2022.

Daily Bag Limit: 10 singly or in the aggregate.

Mourning Dove

Season Dates: Open September 1, 2021, through March 1, 2022.

Daily Bag Limit: 25.

Woodcock, Snipe, and Sora and Virginia Rails

Season Dates: Open September 1 through December 31, 2021.

Daily Bag Limit: 5 woodcock and 25 of the other species.

Sandhill Cranes

Season Dates: Open September 1 through December 31, 2021.

Daily Bag Limit: Two.

General Conditions:

A. All Tribal members will be required to obtain a valid Tribal resource card and 2021-22 hunting license.

B. Except as modified by Service rules, these regulations parallel all Federal regulations contained in 50 CFR part 20. Shooting hours will be from one-half hour before sunrise to sunset.

C. Particular regulations of note include:

(1) Nontoxic shot will be required for all waterfowl hunting by Tribal members.

(2) Tribal members in each zone will comply with Tribal regulations providing for closed and restricted waterfowl hunting areas. These regulations generally incorporate the same restrictions contained in parallel State regulations.

D. Tribal members hunting in Michigan will comply with Tribal codes that contain provisions parallel to Michigan law regarding duck blinds and decoys.

E. Possession limits are three times the daily bag limits.

(j) The Little Traverse Bay Bands of Odawa Indians, Petoskey, Michigan (Tribal Members Only).

Ducks

Season Dates: Open September 1, 2021, through January 31, 2022.

Daily Bag Limit: 20 ducks, including no more than 5 hen mallards, 5 black ducks, 5 redheads, 5 wood ducks, 5 pintail, 5 scaup, and 5 canvasback.

Mergansers

Season Dates: Open September 1, 2021, through January 31, 2022.

Daily Bag Limit: 10 mergansers, including no more than 5 hooded mergansers.

Coots and Gallinules

Season Dates: Open September 15 through December 31, 2021.

Daily Bag Limit: 20.

Canada Geese

Season Dates: Open September 1, 2021, through February 8, 2022.

Daily Bag Limit: 20 in the aggregate.

Sora and Virginia Rails

Season Dates: Open September 1 through December 31, 2021.

Daily Bag Limit: 20.

Snipe

Season Dates: Open September 1 through December 31, 2021.

Daily Bag Limit: 15.

Mourning Doves

Season Dates: Open September 1 through November 14, 2021.

Daily Bag Limit: 15.

Woodcock

Season Dates: Open September 1 through December 1, 2021.

Daily Bag Limit: 10.

Sandhill Cranes

Season Dates: Open September 1 through December 1, 2021.

Daily Bag Limit: Two.

General Conditions: Possession limits are twice the daily bag limits.

(k) Lower Brule Sioux Tribe, Lower Brule Reservation, Lower Brule, South Dakota (Tribal Members and Nontribal Hunters).

Tribal Members

Ducks, Mergansers, and Coots

Season Dates: Open September 1, 2021, through March 10, 2022.

Daily Bag and Possession Limits: Six ducks, including no more than two hen mallard and five mallards total, one pintail, two redheads, two canvasback, three wood ducks, three scaup, two bonus teal during September 1 through 16, 2021, and one mottled duck. Coot daily bag limit is 15. Merganser daily bag limit is five, including no more than two hooded mergansers. The possession limit is three times the daily bag limit.

Canada Geese

Season Dates: Open September 1, 2021, through March 10, 2022.

Daily Bag and Possession Limits: 6 and 18, respectively.

White-Fronted Geese

Season Dates: Open September 1, 2021, through March 10, 2022.

Daily Bag and Possession Limits: Two and six, respectively.

Light Geese

Season Dates: Open September 1, 2021, through March 10, 2022.

Daily Bag Limit: 20.

Doves

Season Dates: Open September 1, 2021, through January 31, 2022.

Daily Bag Limit: 15.

Nontribal Hunters

Ducks (Including Mergansers and Coots)

Season Dates: Open October 2, 2021, through January 6, 2022.

Daily Bag and Possession Limits: Six ducks, including five mallards (no more of which can be two hen mallards), one scaup, two canvasback, two redheads, three wood ducks, one mottled duck, one pintail, and two bonus blue-winged teal during October 3 through 18, 2021. Coot daily bag limit is 15. Merganser daily bag limit is five, including no more than two hooded mergansers. The possession limit is three times the daily bag limit.

Canada Geese

Season Dates: Open October 23, 2021, through February 6, 2022.

Daily Bag and Possession Limits: 6 and 18, respectively.

White-Fronted Geese

Season Dates: Open October 23, 2021, through January 18, 2022.

Daily Bag and Possession Limits: Two and six, respectively.

Light Geese

Season Dates: Open October 23, 2021, through February 6, 2022, and open February 7 through March 10, 2022.

Daily Bag and Possession Limits: 50 and no possession limit.

Doves

Season Dates: Open September 1 through November 29, 2021.

Daily Bag Limit: 15.

General Conditions: All hunters must comply with the basic Federal migratory bird hunting regulations in 50 CFR part 20, including the use of steel shot and shooting hours. Nontribal hunters must possess a valid Migratory Bird Hunting and Conservation Stamp. The Lower Brule Sioux Tribe has an official Conservation Code that hunters must adhere to when hunting in areas subject to control by the Tribe.

(l) [Reserved]

(m) [Reserved]

(n) Makah Indian Tribe, Neah Bay, Washington (Tribal Members).

Band-Tailed Pigeons

Season Dates: Open September 1 through December 31, 2021.

Daily Bag Limit: Two band-tailed pigeons.

Ducks and Coots

Season Dates: Open September 25, 2021, through January 31, 2022.

Daily Bag Limit: Seven ducks including no more than five mallards (only two of which can be a hen), one redhead, one pintail, three scaup, and one canvasback. The seasons on wood duck and harlequin are closed. The coot daily bag limit is 25.

Geese

Season Dates: Open September 25, 2021, through January 31, 2022.

Daily Bag Limit: Four. The season on dusky Canada geese is closed.

Brant

Season Dates: Open September 25, 2021, through January 31, 2022.

Daily Bag Limit: Two per day.

General Conditions:

All other Federal regulations contained in 50 CFR part 20 apply. The following restrictions also apply:

1. As per Makah Ordinance 44, only shotguns may be used to hunt any species of waterfowl.

2. Additionally, shotguns must not be discharged within 300 feet of an occupied area. Hunters must be eligible, enrolled Makah Tribal members and must carry their Indian Treaty Fishing and Hunting Identification Card while hunting. No tags or permits are required to hunt waterfowl.

3. The use of live decoys and/or baiting to pursue any species of waterfowl is prohibited.

4. Only Service-approved nontoxic shot is allowed; the use of lead shot is prohibited.

5. The use of dogs is permitted to hunt waterfowl.

6. Shooting hours for all species of waterfowl are one-half hour before sunrise to sunset.

7. Open hunting areas: Makah Reservation except for designated wilderness areas and within 1 mile of the Cape Flattery and Shi-shi Trails. Off-Reservation hunting areas are specified in the general hunting regulations.

(o) Muckleshoot Indian Tribe, Auburn, Washington (Tribal Members Only).

Band-Tailed Pigeons, Mourning Doves, and Snipe

Season Dates: Open September 1, 2021, through March 10, 2022.

Daily Bag Limit: 2, 15, and 8, respectively.

Ducks (Including Coots)

Season Dates: Open September 1, 2021, through March 10, 2022.

Daily Bag Limit: Seven ducks, including no more than two hen mallards, one mottled duck, two canvasback, three scaup, two redheads, two scoter, two long-tailed ducks, two goldeneye, and two pintail. Coot daily bag limit is 25. The Tribe has a limit on harlequin ducks of one per season.

Geese

Season Dates: Open September 1, 2021, through March 10, 2022.

Daily Bag Limit: 4 Canada geese, 6 light geese, 10 white-fronted geese, and 2 brant. There is a year-round closure on dusky Canada geese.

All other Federal regulations contained in 50 CFR part 20 apply. The following restrictions also apply:

1. Hunting can occur on reservation and off reservation on lands where the Tribe has treaty-reserved hunting rights or has documented traditional use.

2. Shooting hours for all species of waterfowl are one-half hour before sunrise to one-half after sunset.

3. Hunters must be eligible, enrolled Muckleshoot Tribal members and must carry their Tribal identification while hunting.

4. Tribal members hunting migratory birds must also have a combined Migratory Bird Hunting Permit and Harvest Report Card.

5. The use of live decoys and/or baiting to pursue any species of waterfowl is prohibited.

6. Hunting for migratory birds is with shotgun only. Only steel, tungsten-iron, tungsten-polymer, tungsten-matrix, and tin shot are allowed for hunting waterfowl. It is unlawful to use or possess lead shot while hunting waterfowl.

(p) Navajo Nation, Navajo Indian Reservation, Window Rock, Arizona (Tribal Members and Nontribal Hunters).

Band-Tailed Pigeons

Season Dates: Open September 1 through 30, 2021.

Daily Bag and Possession Limits: 5 and 10 pigeons, respectively.

Mourning Doves

Season Dates: Open September 1 through 30, 2021.

Daily Bag and Possession Limits: 10 and 20 doves, respectively.

Ducks (Including Mergansers and Coots)

Season Dates: Open September 25, 2021, through January 31, 2022, for 107 days total.

Daily Bag and Possession Limits: Seven ducks, including no more than two hen mallards, one mottled duck, two canvasback, two scaup (when open; see “Scaup” entry), two redheads, and one pintail. Coot daily bag limit is 25. Merganser daily bag limit is seven. The possession limit is three times the daily bag limit.

Scaup

Season Dates: Open September 25, 2021, through January 31, 2022, for 86 days total.

Daily Bag and Possession Limits: Two scaup. Scaup count towards the daily bag limit for ducks and mergansers; see entry “Ducks (Including Mergansers and Coots).” The possession limit is three times the daily bag limit.

Canada Geese

Season Dates: Open September 25, 2021, through January 31, 2022, for 107 days total.

Daily Bag and Possession Limits: 4 and 12, respectively.

General Conditions: Tribal and nontribal hunters will comply with all basic Federal migratory bird hunting regulations in 50 CFR part 20, regarding shooting hours and manner of taking. In addition, each waterfowl hunter 16 years of age or older must carry on his/her person a valid Migratory Bird Hunting and Conservation Stamp (Duck Stamp) signed in ink across the face. Special regulations established by the Navajo Nation also apply on the reservation.

(q) Oneida Tribe of Indians of Wisconsin, Oneida, Wisconsin (Tribal Members Only).

Ducks (Including Mergansers)

Season Dates: Open September 11 through December 5, 2021.

Daily Bag and Possession Limits: Six, including no more than six mallards (three hen mallards), two redhead, two pintail, and one hooded merganser. The possession limit is twice the daily bag limit.

Geese

Season Dates: Open September 1 through December 31, 2021.

Daily Bag and Possession Limits: 5 Canada geese and 5 white geese, with a possession limit of 20. A seasonal quota of 500 birds is adopted. If the quota is reached before the season concludes, the season will be closed at that time.

Brant

Season Dates: Open September 1 through December 31, 2021.

Daily Bag and Possession Limits: 5 brant, with a possession limit of 10.

Woodcock

Season Dates: Open September 1 through November 7, 2021.

Daily Bag and Possession Limits: Two and four woodcock, respectively.

Doves

Season Dates: Open September 1 through November 7, 2021.

Daily Bag and Possession Limits: 10 and 20 doves, respectively.

General Conditions: Tribal member shooting hours are one-half hour before sunrise to one-half hour after sunset. Nontribal members hunting on the Reservation or on lands under the jurisdiction of the Tribe must comply with all State of Wisconsin regulations, including season dates, shooting hours, and bag limits, which differ from Tribal member seasons. Tribal members and nontribal members hunting on the Reservation or on lands under the jurisdiction of the Tribe will observe all basic Federal migratory bird hunting regulations found in 50 CFR part 20, with the following exceptions: Tribal members are exempt from the purchase of the Migratory Waterfowl Hunting and Conservation Stamp (Duck Stamp); and shotgun capacity is not limited to three shells.

(r) Point No Point Treaty Council, Kingston, Washington (Tribal Members Only).

Jamestown S'Klallam Tribe

Duck and Merganser

Season Dates: Open September 1, 2021, through March 10, 2022.

Daily Bag and Possession Limits: Seven, including no more than one harlequin duck per season. Possession limit is three times the daily bag limit.

Geese

Season Dates: Open September 1, 2021, through March 10, 2022.

Daily Bag and Possession Limits: The daily bag limits for Canada geese, light geese, and white-fronted geese are 5, 6, and 10, respectively. There is a year-round closure on dusky Canada geese. Possession limit is three times the daily bag limit.

Brant

Season Dates: Open January 15 through 31, 2022.

Daily Bag and Possession Limits: Two and six, respectively.

Coots

Season Dates: Open September 7, 2021, through March 10, 2022.

Daily Bag and Possession Limits: 7 and 21 coots, respectively.

Mourning Doves

Season Dates: Open September 7, 2021, through January 20, 2022.

Daily Bag and Possession Limits: 10 and 30 doves, respectively.

Snipe

Season Dates: Open September 1, 2021, through March 10, 2022.

Daily Bag and Possession Limits: 8 and 24 snipe, respectively.

Band-Tailed Pigeons

Season Dates: Open September 15 through November 30, 2021.

Daily Bag and Possession Limits: Two and six pigeons, respectively.

Port Gamble S'Klallam Tribe

Duck and Merganser

Season Dates: Open September 1, 2021, through March 10, 2022.

Daily Bag and Possession Limits: Seven, including no more than one harlequin duck per season. Possession limit is three times the daily bag limit.

Geese

Season Dates: Open September 1, 2021, through March 10, 2022.

Daily Bag and Possession Limits: The daily bag limits for Canada geese, light geese, and white-fronted geese are 5, 6, and 10, respectively. There is a year-round closure on dusky Canada geese. Possession limit is three times the daily bag limit.

Brant

Season Dates: Open January 1 through 31, 2022.

Daily Bag and Possession Limits: Two and six, respectively.

Coots

Season Dates: Open September 1, 2021, through March 10, 2022.

Daily Bag and Possession Limits: 7 and 21 coots, respectively.

Mourning Doves

Season Dates: Open September 1, 2021, through January 31, 2022.

Daily Bag and Possession Limits: 10 and 30 doves, respectively.

Snipe

Season Dates: Open September 1, 2021, through March 10, 2022.

Daily Bag and Possession Limits: 8 and 24 snipe, respectively.

Band-Tailed Pigeons

Season Dates: Open September 15 through November 30, 2021.

Daily Bag and Possession Limits: Two and six pigeons, respectively.

General Conditions: Tribal members must possess a Tribal hunting permit from the Point No Point Tribal Council pursuant to Tribal law. Hunting hours are from one-half hour before sunrise to sunset. Hunters must observe all other basic Federal migratory bird hunting regulations in 50 CFR part 20.

(s) The Saginaw Chippewa Indian Tribe of Michigan, Isabella Reservation, Mt. Pleasant, Michigan (Tribal Members Only).

Mourning Doves

Season Dates: Open September 1, 2021, through January 31, 2022.

Daily Bag Limit: 25 doves.

Ducks

Season Dates: Open September 1, 2021, through January 31, 2022.

Daily Bag Limit: 20, including no more than 5 hen mallards, 5 wood ducks, 5 black ducks, 5 pintails, 5 redheads, 5 scaup, and 5 canvasbacks.

Mergansers

Season Dates: Open September 1, 2021, through January 31, 2022.

Daily Bag Limit: 10, including no more than 5 hooded mergansers.

Geese

Season Dates: Open September 1, 2021, through January 31, 2022.

Daily Bag Limit: 20 in the aggregate.

Coots and Gallinule

Season Dates: Open September 1, 2021, through January 31, 2022.

Daily Bag Limit: 20 in the aggregate.

Woodcock

Season Dates: Open September 1, 2021, through January 31, 2022.

Daily Bag Limit: 10 woodcock.

Common Snipe

Season Dates: Open September 1, 2021, through January 31, 2022.

Daily Bag Limit: 16.

Sora and Virginia Rails

Season Dates: Open September 1, 2021, through January 31, 2022.

Daily Bag Limit: 20 in the aggregate.

Sandhill Cranes

Season Dates: Open September 1, 2021, through January 31, 2022.

Daily Bag Limit: One.

General Conditions: Possession limits are twice the daily bag limits except for rails, of which the possession limit equals the daily bag limit (20). Tribal members must possess a Tribal hunting permit from the Saginaw Tribe pursuant to Tribal law. Shooting hours are one-half hour before sunrise until one-half hour after sunset. Hunters must observe all other basic Federal migratory bird hunting regulations in 50 CFR part 20.

(t) Sauk-Suiattle Indian Tribe, Darrington, Washington (Tribal Members Only).

Mourning Doves

Season Dates: Open September 1, 2021, through March 10, 2022.

Daily Bag Limit: 10 doves.

Band-Tailed Pigeons

Season Dates: Open September 1, 2021, through March 10, 2022.

Daily Bag Limit: 10 pigeons.

Ducks

Season Dates: Open September 1, 2021, through March 10, 2022.

Daily Bag Limit: 20.

Geese

Season Dates: Open September 1, 2021, through March 10, 2022.

Daily Bag Limit: 20 geese.

Coots

Season Dates: Open September 1, 2021, through March 10, 2022.

Daily Bag Limit: 25 coots.

Brant

Season Dates: Open September 1, 2021, through March 10, 2022.

Daily Bag Limit: Five brant.

General Conditions: Shooting hours are one-half hour before sunrise until one-half hour after sunset. Hunters must observe all other basic Federal migratory bird hunting regulations in 50 CFR part 20.

(u) Sault Ste. Marie Tribe of Chippewa Indians, Sault Ste. Marie, Michigan (Tribal Members Only).

Mourning Doves

Season Dates: Open September 1 through November 14, 2021.

Daily Bag Limit: 10 doves.

Teal

Season Dates: Open September 1 through December 31, 2021.

Daily Bag Limit: 20 in the aggregate.

Ducks

Season Dates: Open September 1 through December 31, 2021.

Daily Bag Limit: 20, including no more than 10 mallards (only 5 of which may be hens), 5 canvasback, 5 black ducks, and 5 wood ducks.

Mergansers

Season Dates: Open September 1 through December 31, 2021.

Daily Bag Limit: 10 in the aggregate.

Geese

Season Dates: Open September 1 through December 31, 2021.

Daily Bag Limit: 20 in the aggregate.

Coots and Gallinule

Season Dates: Open September 1 through December 31, 2021.

Daily Bag Limit: 20 in the aggregate.

Woodcock

Season Dates: Open September 2 through December 1, 2021.

Daily Bag Limit: 10.

Common Snipe

Season Dates: Open September 1 through December 31, 2021.

Daily Bag Limit: 16.

Sora and Virginia Rails

Season Dates: Open September 1 through December 31, 2021.

Daily Bag Limit: 20 in the aggregate.

General Conditions: Possession limits are twice the daily bag limits except for rails, of which the possession limit equals the daily bag limit (20). Tribal members must possess a Tribal hunting permit from the Sault Ste. Marie Tribe pursuant to Tribal law. Shooting hours are one-half hour before sunrise until one-half hour after sunset. Hunters must observe all other basic Federal migratory bird hunting regulations in 50 CFR part 20.

(v) Shoshone-Bannock Tribes, Fort Hall Indian Reservation, Fort Hall, Idaho (Nontribal Hunters).

Ducks, Including Mergansers

Duck Season Dates: Open October 2, 2021, through January 18, 2022.

Scaup Season Dates: Open October 2 through December 27, 2021.

Daily Bag and Possession Limits: Seven ducks and mergansers, including no more than two hen mallards, one pintail, two scaup (when open), two canvasback, and two redheads. The possession limit is three times the daily bag limit.

Coots

Season Dates: Same as ducks.

Daily Bag and Possession Limits: 25 coots. The possession limit is three times the daily bag limit.

Common Snipe

Season Dates: Same as ducks.

Daily Bag and Possession Limits: 8 and 24 snipe, respectively.

Canada Geese

Season Dates: Open October 2, 2021, through January 18, 2022.

Daily Bag and Possession Limits: 4 and 12, respectively.

White-Fronted Geese

Season Dates: Open October 2, 2021, through January 18, 2022.

Daily Bag and Possession Limits: 10 and 30, respectively.

Light Geese

Season Dates: Open October 2, 2021, through January 18, 2022.

Daily Bag and Possession Limits: 20 and 60, respectively.

General Conditions: Nontribal hunters must comply with all basic Federal migratory bird hunting regulations in 50 CFR part 20 regarding shooting hours and manner of taking. In addition, each waterfowl hunter 16 years of age or older must possess a valid Migratory Bird Hunting and Conservation Stamp (Duck Stamp) signed in ink across the stamp face. Other regulations established by the Shoshone-Bannock Tribes also apply on the reservation.

(w) [Reserved]

(x) Spokane Tribe of Indians, Wellpinit, Washington (Tribal Members Only).

Ducks

Season Dates: Open September 2, 2021, through January 31, 2022.

Daily Bag and Possession Limits: Seven ducks, including no more than two hen mallards, one pintail, two scaup, two canvasback, and two redheads. The daily bag limit on harlequin duck is one per season. The possession limit is twice the daily bag limit.

Geese

Season Dates: Open September 2, 2021, through January 31, 2022.

Daily Bag and Possession Limits: 4 Canada geese, 10 white-fronted geese, and 20 light geese. The possession limit is twice the daily bag limit.

General Conditions: Tribal members must possess a Tribal hunting permit from the Spokane Indian Tribe pursuant to Tribal law. Shooting hours are one-half hour before sunrise until sunset. Hunters must observe all other basic Federal migratory bird hunting regulations in 50 CFR part 20.

(y) [Reserved]

(z) Stillaguamish Tribe of Indians, Arlington, Washington (Tribal Members Only).

Common Snipe

Season Dates: Open October 1, 2021, through January 31, 2022.

Daily Bag and Possession Limits: 10 and 20, respectively.

Ducks

Season Dates: Open October 1, 2021, through March 10, 2022.

Daily Bag and Possession Limits: 10 ducks, including no more than 7 mallards (only 3 of which may be hens), 3 pintails, 3 redheads, 3 scaup, and 3 canvasback. The possession limit is twice the daily bag limit.

Coots

Season Dates: Open October 1, 2021, through January 31, 2022.

Daily Bag and Possession Limits: 25 coots. The possession limit is twice the daily bag limit.

Geese

Season Dates: Open October 1, 2021, through March 10, 2022.

Daily Bag and Possession Limits: 6 Canada geese, 12 white-fronted geese, and 8 snow geese. The possession limit is three times the daily bag limit. The season on brant is closed.

Swans

Season Dates: Open October 1, 2021, through January 31, 2022.

Bag Limit: Two per season.

General Conditions: Tribal members hunting on lands will observe all basic Federal migratory bird hunting regulations found in 50 CFR part 20, which will be enforced by the Stillaguamish Tribal Law Enforcement. Tribal members are required to use steel shot or a nontoxic shot as required by Federal regulations. The swan season is by special draw permit only.

(aa) Swinomish Indian Tribal Community, LaConner, Washington (Tribal Members Only).

Ceded Territory and Swinomish Reservation

Ducks and Mergansers

Season Dates: Open September 1, 2021, through March 9, 2022.

Daily Bag and Possession Limits: 20 and 40, respectively.

Geese

Season Dates: Open September 1, 2021, through March 9, 2022.

Daily Bag and Possession Limits: 10 and 20 geese, respectively.

Brant

Season Dates: Open September 1, 2021, through March 9, 2022.

Daily Bag and Possession Limits: 5 and 10 brant, respectively.

Coots

Season Dates: Open September 1, 2021, through March 9, 2022.

Daily Bag and Possession Limits: 25 and 75 coots, respectively.

Mourning Doves

Season Dates: Open September 1, 2021, through March 9, 2022.

Daily Bag and Possession Limits: 15 and 30 mourning doves, respectively.

Band-Tailed Pigeons

Season Dates: Open September 1, 2021, through March 9, 2022.

Daily Bag and Possession Limits: Three and six band-tailed pigeons, respectively.

Snipe

Season Dates: Open September 1, 2021, through March 9, 2022.

Daily Bag and Possession Limits: 15 and 30 snipe, respectively.

General Conditions: Shooting hours are from 30 minutes before sunrise until 30 minutes after sunset. Tribal members are required to use steel shot or a nontoxic shot as required by Federal regulations.

(bb) The Tulalip Tribes of Washington, Tulalip Indian Reservation, Marysville, Washington (Tribal Members Only).

Ducks and Mergansers

Season Dates: Open September 1, 2021, through February 28, 2022.

Daily Bag and Possession Limits: 15 ducks, including no more than 1 pintail and 2 canvasback. Possession limit is twice the daily bag limit.

Sea Ducks

Season Dates: Open September 1, 2021, through February 28, 2022.

Daily Bag and Possession Limits: 15 sea ducks, including no more than 4 harlequin. Possession limit is twice the daily bag limit.

Geese

Season Dates: Open September 1, 2021, through February 28, 2022.

Daily Bag and Possession Limits: 10 geese, including no more than 4 cackling Canada geese and no dusky Canada geese. Possession limit is twice the daily bag limit.

Brant

Season Dates: Open September 1, 2021, through February 28, 2022.

Daily Bag and Possession Limits: 5 and 10 brant, respectively.

Coots

Season Dates: Open September 1, 2021, through February 28, 2022.

Daily Bag and Possession Limits: 25 and 25 coots, respectively.

Snipe

Season Dates: Open September 1, 2021, through February 28, 2022.

Daily Bag and Possession Limits: 8 and 16 snipe, respectively.

General Conditions: All Tribal hunters must have a valid Tribal identification card on his or her person while hunting. All nontribal hunters must obtain and possess while hunting a valid Tulalip Tribe hunting permit and be accompanied by a Tulalip Tribal member. Shooting hours are one-half hour before sunrise to sunset, and steel or federally approved nontoxic shot is required for all migratory bird hunting. Hunters must observe all other basic Federal migratory bird hunting regulations in 50 CFR part 20.

(cc) Upper Skagit Indian Tribe, Sedro Woolley, Washington (Tribal Members Only).

Mourning Doves

Season Dates: Open September 1 through December 31, 2021.

Daily Bag and Possession Limits: 12 and 15 mourning doves, respectively.

Ducks

Season Dates: Open October 1, 2021, through February 28, 2022.

Daily Bag and Possession Limits: 15 and 20, respectively.

Coots

Season Dates: Open October 1, 2021, through February 15, 2022.

Daily Bag and Possession Limits: 20 and 30, respectively.

Geese

Season Dates: Open October 1, 2021, through February 28, 2022.

Daily Bag and Possession Limits: 7 and 10 geese, respectively.

Brant

Season Dates: Open November 1 through 10, 2021.

Daily Bag and Possession Limits: Two and two, respectively.

General Conditions: Tribal members must have the Tribal identification and harvest report card on their person to hunt. Tribal members hunting on the Reservation will observe all basic Federal migratory bird hunting regulations found in 50 CFR part 20, except shooting hours would be 15 minutes before official sunrise to 15 minutes after official sunset.

(dd) Wampanoag Tribe of Gay Head, Aquinnah, Massachusetts (Tribal Members Only).

Teal

Season Dates: Open October 5, 2021, through February 12, 2022.

Daily Bag Limit: 10 teal.

Ducks

Season Dates: Open September 21, 2021, through January 22, 2022.

Daily Bag Limit: Six ducks, including no more than four hen mallards, six black ducks, four mottled ducks, one fulvous whistling duck, four mergansers, three scaup, two hooded merganser, three wood ducks, one canvasback, two redheads, and two pintail. The season is closed for harlequin ducks.

Sea Ducks

Season Dates: Open September 21, 2021, through January 22, 2022.

Daily Bag Limit: Seven ducks including no more than four of any one species (only one of which may be a hen eider).

Woodcock

Season Dates: Open October 5 through November 13, 2021.

Daily Bag Limit: Three woodcock.

Canada Geese

Season Dates: Open September 1 through 11, 2021, and open November 23, 2021, through January 15, 2022.

Daily Bag Limit: Eight Canada geese.

Snow Geese

Season Dates: Open September 1 through 11, 2021, and open November 23, 2021, through February 12, 2022.

Daily Bag Limit: 15 snow geese.

Sora and Virginia Rails

Season Dates: Open September 1 through October 30, 2021.

Daily Bag Limit: 5 sora and 10 Virginia rails.

Snipe

Season Dates: Open September 3 through December 4, 2021.

Daily Bag Limit: Eight snipe.

General Conditions: Shooting hours are one-half hour before sunrise to sunset. Nontoxic shot is required. All other basic Federal migratory bird hunting regulations contained in 50 CFR part 20 will be observed.

(ee) White Earth Band of Ojibwe, White Earth, Minnesota (Tribal Members Only).

Ducks

Season Dates: Open September 11 through December 12, 2021.

Daily Bag Limit: 10 ducks, including no more than 2 female mallards, 2 pintails, and 2 canvasback.

Mergansers

Season Dates: Open September 11 through December 13, 2021.

Daily Bag Limit: Five mergansers, including no more than two hooded mergansers.

Geese

Season Dates: Open September 1 through December 13, 2021.

Daily Bag Limit: 10 geese through September 24, and 5 thereafter.

Coots

Season Dates: Open September 1 through November 30, 2021.

Daily Bag Limit: 20 coots.

Snipe

Season Dates: Open September 1 through November 30, 2021.

Daily Bag Limit: 10 snipe.

Mourning Doves

Season Dates: Open September 1 through November 30, 2021.

Daily Bag Limit: 25 mourning doves.

Woodcock

Season Dates: Open September 1 through November 30, 2021.

Daily Bag Limit: 10 woodcock.

Rail

Season Dates: Open September 1 through November 30, 2021.

Daily Bag Limit: 25 rail.

General Conditions: Shooting hours are one-half hour before sunrise to one-half hour after sunset. Nontoxic shot is required. All other basic Federal migratory bird hunting regulations contained in 50 CFR part 20 will be observed.

(ff) White Mountain Apache Tribe, Fort Apache Indian Reservation, Whiteriver, Arizona (Tribal Members and Nontribal Hunters).

Band-Tailed Pigeons (Wildlife Management Unit 10 and Areas South of Y-70 and Y-10 in Wildlife Management Unit 7, Only)

Season Dates: Open September 1 through 15, 2021.

Daily Bag and Possession Limits: Three and six pigeons, respectively.

Mourning Doves (Wildlife Management Unit 10 and Areas South of Y-70 and Y-10 in Wildlife Management Unit 7, Only)

Season Dates: Open September 1 through 15, 2021.

Daily Bag and Possession Limits: 10 and 20 doves, respectively.

Ducks and Mergansers

Season Dates: Open October 16, 2021, through January 23, 2022.

Daily Bag Limit: Seven, including no more than two redheads, one pintail, two scaup (when open; see entry “Scaup”), seven mallards (including no more than two hen mallards), and two canvasback.

Possession Limits: Twice the daily bag limit.

Scaup

Season Dates: Open November 6, 2021, through January 23, 2022.

Daily Bag Limit: Two scaup. Scaup count towards the daily bag limit for ducks and mergansers; see entry “Ducks and Mergansers.”

Possession Limits: Twice the daily bag limit.

Coots

Season Dates: Open October 16, 2021, through January 23, 2022.

Daily Bag and Possession Limits: 25 and 50, respectively.

Canada Geese

Season Dates: Open October 16, 2021, through January 23, 2022.

Daily Bag and Possession Limits: Three and six Canada geese, respectively.

General Conditions: All nontribal hunters hunting band-tailed pigeons and mourning doves on Reservation lands shall have in their possession a valid White Mountain Apache Daily or Yearly Small Game Permit. In addition to a small game permit, all nontribal hunters hunting band-tailed pigeons must have in their possession a White Mountain Special Band-tailed Pigeon Permit. Other special regulations established by the White Mountain Apache Tribe apply on the reservation. Tribal and nontribal hunters will comply with all basic Federal migratory bird hunting regulations in 50 CFR part 20 regarding shooting hours and manner of taking.

Shannon A. Estenoz,
Assistant Secretary for Fish and Wildlife and Parks.

[FR Doc. 2021-17438 Filed 8-16-21; 8:45 am]

BILLING CODE 4333-15-P